DEPARTMENT OF LABOR

Employment and Training Administration

[TA-W-64,229B; TA-W-64,229C]

Hanesbrands, Inc. Formely Known as Sara Lee Branded Apparel Including On-Site Leased Workers From Diversco Integrated Services and Kelly Services, Inc., Gastonia, NC; Hanesbrands, Inc. Formely Known as Sara Lee Branded Apparel Including On-Site Leased Workers From Diversco Integrated Services and Kelly Services, Inc., Rockingham, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 27, 2008, applicable to workers of Hanesbrands, Inc., Gastonia, North Carolina (TA-W-64,229B), and Hanesbrands, Inc., Rockingham, North Carolina (TA-W-64,229C), including on-site workers of Diversified Services. The notice was published in the Federal Register on December 10, 2008 (73 FR 75137).

At the request of the company official, the Department reviewed the certification for workers of the subject firm. The workers are engaged in the production of yarn, fabric (spun and knitted) and hosiery for apparel.

New information shows that leased workers from Kelly Services, Inc., were employed on-site at Hanesbrands, Inc., Gastonia, North Carolina (TA-W-64,229B), and Hanesbrands, Inc., Rockingham, North Carolina (TA-W-64,229C). The Department has determined that these workers were sufficiently under the control of the subject firm.

Based on these findings, the Department is amending this certification to include leased workers from Kelly Services, Inc. working on-site and sufficiently under the control of Hanesbrands, Inc., Gastonia, North Carolina (TA-W-64,229B), and Hanesbrands, Inc., Rockingham, North Carolina (TA-W-64,229C).

The intent of the Department's certification is to include all workers employed at Hanesbrands, Inc., Gastonia, North Carolina (TA-W-64,229B), and Hanesbrands, Inc., Rockingham, North Carolina (TA-W-64,229C) who were adversely affected by a shift in production of yarn, fabric (spun and knitted) and hosiery for apparel to Dominican Republic and El Salvador.

The amended notice applicable to TA-W-64,229 is hereby issued as follows:

All workers of Hanesbrands, Inc., Gastonia, North Carolina (TA-W-64,229B), and Hanesbrands, Inc., Rockingham, North Carolina (TA-W-64,229C), including on-site leased workers from Diversified Services and Kelly Services, Inc., who became totally or partially separated from employment on or after October 5, 2007, through November 25, 2010, are eligible to apply for adjustment assistance under Section 223 of the Trade Act of 1974, and are also eligible to apply for alternative trade adjustment assistance under Section 246 of the Trade Act of 1974.

Signed at Washington, DC this 15th day of April 2009.
Elliott S. Kushner,
Certifying Officer, Division of Trade Adjustment Assistance.

[FR Doc. E9-9931 Filed 4-29-09; 8:45 am]

BILLING CODE 4510-FN-P